SMALL BUSINESS ADMINISTRATION

[Disaster Declaration #20705 and #20706; VIRGINIA Disaster Number VA-20011]

Presidential Declaration Amendment of a Major Disaster for the Commonwealth of Virginia; Correction

AGENCY: U.S. Small Business Administration.

ACTION: Correction.

SUMMARY: This is a correction to amendment 2 of the Presidential declaration of a major disaster for the Commonwealth of Virginia (FEMA-4831-DR), dated October 1, 2024.

Incident: Tropical Storm Helene.

DATES: Issued on December 6, 2024.

Incident Period: September 25, 2024 and continuing.

Physical Loan Application Deadline Date: December 2, 2024.

Economic Injury (EIDL) Loan Application Deadline Date: July 1, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the Commonwealth of Virginia, dated October 1, 2024, published at 89 FR 83754, is hereby corrected to include the Independent City of Norton in Virginia as a contiguous county/city. The following areas have been determined to be adversely affected by the disaster:

Primary Counties/Cities (Physical Damage and Economic Injury Loans): Bedford, Bland, Carroll, Pittsylvania, Independent City of Radford, Russell, Wise.

Contiguous Counties/Cities (Economic Injury Loans Only):

Virginia: Amherst, Botetourt, Campbell, Independent City of Danville, Dickenson, Franklin, Henry, Lee, Independent City of Lynchburg, Independent City of Norton, Patrick, Rockbridge.

North Carolina: Caswell, Rockingham.

Kentucky: Harlan, Letcher, Pike.

All other information in the original declaration remains unchanged.

(Catalog of Federal Domestic Assistance Number 59008)

Alejandro Contreras,
Acting Deputy Associate Administrator, Office of Disaster Recovery & Resilience.

[FR Doc. 2024-29277 Filed 12-11-24; 8:45 am]

BILLING CODE 8026-09-P